DEPARTMENT OF AGRICULTURE

Office of the Secretary

Privacy Act of 1974; Addition of a New System of Records; USDA/FS-52, Resource Ordering and Status System (ROSS)

AGENCY: Office of the Secretary, USDA.

ACTION: New System of Records; request for comment.

SUMMARY: In accordance with the Privacy Act of 1974, as amended, the U.S. Department of Agriculture (USDA) is proposing to add a new Forest Service Privacy Act system of records to its inventory of records systems. USDA invites public comment on this new records system.

DATES: Comment Date: Comments must be received, in writing, on or before February 14, 2005.

Effective Date: This system will be adopted without further notice on March 15, 2005 unless modified to respond to comments received from the public and published in a subsequent notice.

ADDRESSES: Send written comments to the Forest Service Privacy Act Officer (Mail Stop 0003), USDA Forest Service, 1400 Independence Avenue, SW., Washington, DC 20250-0003. Comments may also be sent via e-mail to wo_foia@fs.fed.us, or via facsimile to (703) 605-5104.

FOR FURTHER INFORMATION CONTACT: Jon Skeels, Senior Project Manager, Forest Service Fire and Aviation Management Staff, Information Systems Project Office, 740 Simms Street, Golden, Colorado 80401, at (303) 236-0630, or via e-mail to jskeels@fs.fed.us, or via facsimile to (303) 236-5221.

Additional information concerning the Resource Ordering and Status System may be obtained on the Internet at http://ross.nwcg.gov/.

SUPPLEMENTARY INFORMATION: Pursuant to the Privacy Act (5 U.S.C. 552a), the USDA Forest Service is proposing to add a new system of records entitled USDA/FS-52, Resource Ordering and Status System (ROSS) that will automate an existing manual dispatch process for incident management. The ROSS database will identify, obligate, and report the status of individuals for wildland fire protection and other incident assignments. An estimated 200,000 individual records are expected to be collected in the system and stored in an automated database located at the National Information Technology Center in Kansas City, Missouri. The ROSS database may contain personal information about individuals who participate in wildland fire protection and other incident operations.

The USDA Forest Service is the administrative agency for this system, but it may be used by agencies that are members of the interagency National Wildfire Coordinating Group (NWCG) and its cooperators.

In accordance with the Privacy Act and Office of Management and Budget (OMB) Circular A-130, the USDA has provided a report of this new system of records to the OMB and to the Congress.

A copy of the new system of records is set out at the end of this notice. The USDA invites comments on all portions of this notice. Those who submit comments should be aware that all comments, including names and addresses, when provided, are placed in the record and are available for public inspection. Individuals wishing to inspect comments should call the Forest Service Freedom of Information Act and Privacy Act Office at (703) 605-4913 to make arrangements.

Dated: December 29, 2004.
Ann M. Veneman,
Secretary.

USDA/FS-52

System Name:

Resource Ordering and Status System (ROSS), USDA/FS.

Security Classification:

None.

System Location:

The Resource Ordering and Status System (ROSS) database is located at the National Information Technology Center in Kansas City, MO. Hard copies of the information may be retained at the National Interagency Coordination Center, and approximately 450 Geographic Area Coordination Centers, and Dispatch Offices nation-wide from which an individual is dispatched. The addresses for these offices can be requested from Jon Skeels, Senior Project Manager, Forest Service Fire and Aviation Management Staff, Information Systems Project Office, 740 Simms Street, Golden, Colorado 80401, at (303) 236-0630, or via e-mail to jskeels@fs.fed.us, or via facsimilie to (303) 236-5221.

Categories of individuals covered by the system:

Individuals from agencies that are members of the National Wildfire Coordination Group and its cooperators who participate in wildland fire protection and other incident activities. This includes Federal, State and municipal employees, and private individuals.

Categories of records in the system:

The system of records includes the following required information about individuals: the individual's first and last name, social security number or unique identification number, employment status, home unit, provider, owner, and home dispatch office. The system of records includes the following optional information about individuals: the individual's middle name, 24-hour phone, cell phone, fax, home phone, office phone, TDD number, pager, e-mail address, weight, gender, position(s) qualified to perform, position(s) qualified to perform as a trainee, home location, preferred jetport, fitness rating, and fitness rating expiration date. The individual's social security number is not displayed to any user of the system and is retrievable only by the database administrator in Kansas City.

Authority for maintenance of the system:

16 U.S.C. 551; 36 CFR 200.1.

Purpose(s):

The database automates the existing manual dispatch process for incident management and wildland protection operations. The ROSS database encompasses all business functions related to resource ordering and has the capability to identify, obligate, and report the status of all individual tactical, logistical, service, and support resources mobilized by agencies that are members of the NWCG and its cooperators.

Routine uses of records maintained in the system, including categories of users and the purposes of such uses:

1. Disclose information to other Federal, State, and local agencies that are members of the NWCG and its cooperators who are assisting the agency in the performance of a service related to this system of records and who need to have access to the records in order to perform the activity. Recipients shall be required to comply with the requirements of the Privacy Act of 1974, as amended pursuant to 5 U.S.C. 552a(m).

2. Disclose information to an appropriate agency, whether Federal, State, or local charged with the responsibility of investigating or prosecuting a violation of law, rule, or regulation, or order issued pursuant thereto, when information available indicates a violation or potential violation of law, whether civil, criminal, or regulatory in nature and whether arising by general statute or particular program statute, or by rule, regulation, or order issued pursuant thereto, if the information disclosed is relevant to any enforcement, regulatory, investigative, or prosecutive responsibility of the receiving entity.

3. Disclose information to the Department of Justice for the defense of suits against the United States or its officers, or for the institution of suits for the recovery of claims by the United States Department of Agriculture.

4. Disclose information to a Member of Congress from the record of an individual in response to an inquiry from the Member of Congress made at the request of that individual. In such cases, however, the Member's right to a record is no greater than that of the individual.

5. Disclose information to the National Archives and Records Administration and to the General Services Administration for records management inspections conducted under 44 U.S.C. 2904 and 2906.

Disclosure to consumer reporting agencies:

None.

Policies and practices for storing, retrieving, accessing, retaining, and disposing of records in the system:

Individual data that is used for assignments can be archived from the production system into the system data warehouse. Access to the data is through data exports and reporting mechanisms. Access to personal information shall be blocked except for those specifically authorized to have access.

Storage:

Authorized personnel may access this data. Information is stored in a relational database hosted on computer equipment located at the National Information Technology Center in Kansas City, Missouri.

Retrievability:

Authorized personnel at dispatch offices may retrieve information in a variety of combinations to fill resource orders or track status; however, only the database administrator in Kansas City can retrieve social security numbers.

Safeguards:

Access to the records is available only by username and password and only for those individuals with appropriate system roles. Physical access safeguards are that all records containing personal information will be maintained in secured file cabinets and secured computer rooms and/or tape libraries that can be accessed only by authorized personnel. Electronic access to records is controlled through a system of computer access identification and authorizations utilizing passwords. Access to the data is controlled by data base management system software. Any personal data transmitted over a network is encrypted.

Retention and disposal:

Records are maintained subject to the Federal Records Disposal Act of 1943 (44 U.S.C. 366-380) and the Federal Records Act of 1950, and so designated in the Forest Service Records Management Handbook (FSH) 6209.11. The records are stored in an electronic data warehouse and electronic media for 7 years from the date of last action. Disposal of data will be through secure methods that sanitize the information from all media; hard copies will be shredded or burned.

System manager(s) and address:

Fire and Aviation Management (FAM) Director, (Mail Stop 1107), Forest Service, USDA, 1400 Independence Avenue, SW., Washington, DC 20250-0003.

Notification Procedures:

Any individual may request information regarding this system by writing to the Director of Fire and Aviation Management, Forest Service, USDA, Washington, DC. Individuals whose data is contained in the ROSS database may view their own personal record by contacting their local dispatch office.

Record access procedures:

Use the same procedures as for requesting Notification.

Contesting record procedures:

Use the same procedures as for requesting Notification.

Record source categories:

Information in this system comes primarily from the individual or from other in-service documents or systems.

Exemptions claimed for the system:

None.

[FR Doc. 05-800 Filed 1-13-05; 8:45 am]

BILLING CODE 3410-11-P